DEPARTMENT OF AGRICULTURE

Farm Service Agency

Information Collection Request; County Committee Elections

AGENCY: Farm Service Agency, USDA.

ACTION: Notice of information collection; request for comments.

SUMMARY: In accordance with the Paperwork Reduction Act of 1995, the Farm Service Agency (FSA) is requesting comments from all interested individuals and entities on an extension of a currently approved information collection associated with the FSA county committee elections. The collection of information from FSA farmers and ranchers is used to receive nominations from eligible voters for the FSA county committee.

DATES: We will consider comments we receive by October 30, 2017.

ADDRESSES: We invite you to submit comments on this notice. In your comment, include volume, date, and page number of this issue of the Federal Register. You may submit comments by any of the following methods:

• Federal eRulemaking Portal: Go to: www.regulations.gov. Follow the online instructions for submitting comments.

• Mail, hand delivery, or courier: Jean Knight, Field Operations Specialist for the Deputy Administrator for Field Operations, Farm Service Agency, USDA, STOP 0542, 1400 Independence Avenue SW., Washington, DC 20250-0542.

You may also send comments to the Desk Officer for Agriculture, Office of Information and Regulatory Affairs, Office of Management and Budget, Washington, DC 20503. Copies of the information collection may be requested by contacting Jean Knight at the above address.

FOR FURTHER INFORMATION CONTACT: For specific questions related to collection activities, Jean Knight, (202) 720-0067.

SUPPLEMENTARY INFORMATION: Elections for FSA county committees are held each year; therefore, nominations for eligible nominees are requested each year. Any individual who meets the qualifications mentioned in this paragraph may be nominated by another person or by themselves. A brief form (FSA-669A) is used to collect the information for nominations; it requires the name and address of the nominee and the signatures of both the nominee and the person nominating the individual to be a nominee (only one signature is required for self-nominated individuals). The nominee must be eligible to vote in the designated FSA county committee election, eligible to hold the office of FSA county committee member, and willing to serve, if elected. For more information about FSA county committees, including elections, nominations, eligible voters, eligibility, and other related information, see the regulations in 7 CFR part 7.

In addition, the form also includes a voluntary request for race, ethnicity, and gender information from the nominee.

Title of Collection: County Committee Election.

OMB Control Number: 0560-0229.

Expiration Date of Approval: December 31, 2017.

Type of Request: Extension.

Abstract: This information collection is necessary to effectively allow farmers and ranchers to nominate potential candidates using the form FSA-669A for the FSA county committee election in accordance with the requirements as authorized by the Soil Conservation and Domestic Allotment Act, as amended. Specifically, FSA uses the information provided by the nominee annually or, if needed, throughout the year for special elections to create ballots for FSA county committee elections. There are no changes to the burden hours since the last OMB approval.

For the following estimated total annual burden on respondents, the formula used to calculate the total burden hours is the estimated average time per response multiplied by the estimated total annual of responses.

Estimate of Average Time to Respond: Public reporting burden for collecting information under this notice is estimated to average 0.67 hours per response, including the time for reviewing instructions, searching existing data sources, gathering and maintaining the data needed, and completing and reviewing the collection of information for all respondents and travel time for half of the respondents. The average travel time, which is included in the total annual burden, is estimated to be 1 hour per respondent.

Type of Respondents: Any individual with farming interest in the Local Administrative Area (LAA) (eligible voters).

Estimated Number of Respondents: 10,000.

Estimated Number of Responses per Respondent: 1.

Estimated Total Annual Reponses: 10,000.

Estimated Average Time per Response: 0.67 hours.

Estimated Total Annual Burden on Respondents: 6,700 hours.

We are requesting comments on all aspects of this information to help us to:

(1) Evaluate whether the proposed collection of information is necessary for the proper performance of the functions of the agency, including whether the information will have practical utility;

(2) Evaluate the accuracy of the agency's estimate of the burden of the collection of information, including the validity of the methodology and assumptions used;

(3) Evaluate the quality, ability and clarity of the information technology; and

(4) Minimize the burden of the information collection on those who respond through the use of appropriate automated, electronic, mechanical, or other technological collection techniques or other forms of information technology.

All comments received in response to this notice, including names and addresses when provided, will be a matter of public record. Comments will be summarized and included in the submission for Office of Management and Budget Approval.

Chris P. Beyerhelm,
Acting Administrator, Farm Service Agency.

[FR Doc. 2017-18223 Filed 8-28-17; 8:45 am]

BILLING CODE 3410-05-P